RAILROAD RETIREMENT BOARD

Proposed Collection; Comment Request

In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Evidence of Marital Relationship—Living with Requirements; OMB 3220-0021.

To support an application for a spouse or widow(er)'s annuity under sections 2(c) or 2(d) (45 U.S.C. 231a) of the Railroad Retirement Act, an applicant must submit proof of a valid marriage to a railroad employee. In some cases, the existence of a marital relationship is not formalized by a civil or religious ceremony. In other cases, questions may arise about the legal termination of a prior marriage of the employee, spouse, or widow(er). In these instances, the RRB must secure additional information to resolve questionable marital relationships. The circumstances requiring an applicant to submit documentary evidence of marriage are prescribed in 20 CFR 219.30.

In the absence of documentary evidence, the RRB needs to determine if a valid marriage existed between a spouse or widow(er) annuity applicant and a railroad employee. The RRB utilizes Forms G-124, Individual Statement of Marital Relationship; G-124a, Certification of Marriage Information; G-237, Statement Regarding Marital Status; G-238, Statement of Residence; and G-238a, Statement Regarding Divorce or Annulment, to secure the needed information. Forms G-124, G-237, G-238, and G-238a can be completed either with assistance from RRB personnel during an in-office interview or by mail. One response is requested of each respondent. Completion is required to obtain benefits. The RRB proposes minor non-burden impacting changes to Forms G-124, G-124a, and G-237 to remove the words “husband” or “wife” and replace them with gender-neutral term “spouse”. The RRB proposes no changes to Forms G-238 and G-238a.

Estimate of Annual Respondent Burden
Form No. | Annual responses | Time (minutes) | Burden (hours)
G-124 (in person) | 125 | 15 | 31
G-124 (by mail) | 75 | 20 | 25
G-124a | 300 | 10 | 50
G-237 (in person) | 75 | 15 | 19
G-237 (by mail) | 75 | 20 | 25
G-238 (in person) | 150 | 3 | 8
G-238 (by mail) | 150 | 5 | 13
G-238a | 150 | 10 | 25
Total | 1,100 |  | 196

2. Title and purpose of information collection: Employer Service and Compensation Reports; OMB 3220-0070.

Section 2(c) of the Railroad Unemployment Insurance Act (RUIA) (45 U.S.C. 352) specifies the maximum normal unemployment and sickness benefits that may be paid in a benefit year. Section 2(c) further provides for extended benefits for certain employees and for beginning a benefit year early for other employees. The conditions for these actions are prescribed in 20 CFR 302.

All information about creditable railroad service and compensation needed by the RRB to administer section 2(c) is not always available from annual reports filed by railroad employers with the RRB (OMB 3220-0008). When this occurs, the RRB must obtain supplemental information about service and compensation.

The RRB utilizes Form UI-41, Supplemental Report of Service and Compensation, and Form UI-41a, Supplemental Report of Compensation, to obtain the additional information about service and compensation from railroad employers. Completion of the forms is mandatory. One response is required of each respondent. The RRB proposes no changes to Form UI-41 and Form UI-41a.

Estimate of Annual Respondent Burden
Form No. | Annual responses | Time (minutes) | Burden (hours)
UI-41 | 100 | 8 | 13
UI-41a | 50 | 8 | 7
Total | 150 |  | 20

3. Title and purpose of information collection: Customer Satisfaction Monitoring; OMB 3220-0192.

In accordance with Executive Order 12862, the Railroad Retirement Board (RRB) conducts a number of customer surveys designed to determine the kinds and quality of services our beneficiaries, claimants, employers and members of the public want and expect, as well as their satisfaction with existing RRB services. The information collected is used by RRB management to monitor customer satisfaction by determining to what extent services are satisfactory and where and to what extent services can be improved. The surveys are limited to data collections that solicit strictly voluntary opinions, and do not collect information which is required or regulated. The information collection, which was first approved by the Office of Management and Budget (OMB) in 1997, provides the RRB with a generic clearance authority. This generic authority allows the RRB to submit a variety of new or revised customer survey instruments (needed to timely implement customer monitoring activities) to the Office of Management and Budget (OMB) for expedited review and approval. The RRB proposes no changes to Form G-201.

Estimate of Annual Respondent Burden
Form No. | Annual responses | Time (minutes) | Burden (hours)
G-201 | 50 | 2 | 2
Web-Site Survey | 300 | 5 | 25
Periodic Survey | 1,020 | 12 | 204
Focus Groups | 250 | 120 | 500
Total | 1,620 |  | 731

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2022-24878 Filed 11-15-22; 8:45 am]

BILLING CODE 7905-01-P